ENVIRONMENTAL PROTECTION AGENCY

40 CFR Part 52

[EPA-R05-OAR-2012-0214; FRL-9655-3]

Approval and Promulgation of Air Quality Implementation Plans; Indiana; Central Indiana (Indianapolis) Ozone Maintenance Plan Revision to Approved Motor Vehicle Emissions Budgets

AGENCY: Environmental Protection Agency (EPA).

ACTION: Proposed rule.

SUMMARY: EPA is proposing to approve Indiana's request to revise its Central Indiana 1997 8-hour ozone maintenance air quality State Implementation Plan (SIP) by replacing the previously approved motor vehicle emissions budgets (budgets) with budgets developed using EPA's Motor Vehicle Emissions Simulator (MOVES) 2010a emissions model. The Central Indiana 1997 8-hour ozone maintenance area consists of Marion, Boone, Hendricks, Morgan, Johnson, Shelby, Hancock, Madison, and Hamilton Counties in Indiana. Indiana submitted this request to EPA for parallel processing on March 2, 2012.

DATES: Comments must be received on or before May 7, 2012.

ADDRESSES: Submit your comments, identified by Docket ID No. EPA-R05-OAR-2012-0214, by one of the following methods:

1. www.regulations.gov: Follow the on-line instructions for submitting comments.

2. Email: blakley.pamela@epa.gov.

3. Fax: (312) 408-2279.

4. Mail: Pamela Blakley, Chief, Control Strategies Section, Air Programs Branch (AR-18J), U.S. Environmental Protection Agency, 77 West Jackson Boulevard, Chicago, Illinois 60604.

5. Hand Delivery: Pamela Blakley, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2012-0214. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to section I of the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Patricia Morris, Environmental Scientist at (312) 353-8656 before visiting the Region 5 office.

FOR FURTHER INFORMATION CONTACT: Patricia Morris, Environmental Scientist, Control Strategies Section, Air Programs Branch (AR-18J), Environmental Protection Agency, Region 5, 77 West Jackson Boulevard, Chicago, Illinois 60604, (312) 353-8656, patricia.morris@epa.gov.

SUPPLEMENTARY INFORMATION: Throughout this document whenever “we,” “us,” or “our” is used, we mean EPA. This supplementary information section is arranged as follows:

I. What should I consider as I prepare my comments for EPA?

II. What action is EPA proposing to take?

III. What is the background for this action?

a. SIP Budgets and Transportation Conformity

b. Prior Approval of Budgets

c. The MOVES Emissions Model and Regional Transportation Conformity Grace Period

d. Submission of New Budgets Based on MOVES2010a

IV. What are the criteria for approval?

V. What is EPA's analysis of the State's submittal?

a. The Revised Inventories

b. Approvability of the MOVES2010a-Based Budgets

c. Applicability of MOBILE6.2-Based Budgets

VI. What action is EPA taking?

VII. Statutory and Executive Order Reviews

I. What should I consider as I prepare my comments for EPA?

When submitting comments, remember to:

1. Identify the rulemaking by docket number and other identifying information (subject heading, Federal Register date and page number).

2. Follow directions—EPA may ask you to respond to specific questions or organize comments by referencing a Code of Federal Regulations (CFR) part or section number.

3. Explain why you agree or disagree; suggest alternatives and substitute language for your requested changes.

4. Describe any assumptions and provide any technical information and/or data that you used.

5. If you estimate potential costs or burdens, explain how you arrived at your estimate in sufficient detail to allow for it to be reproduced.

6. Provide specific examples to illustrate your concerns, and suggest alternatives.

7. Explain your views as clearly as possible, avoiding the use of profanity or personal threats.

8. Make sure to submit your comments by the comment period.

II. What action is EPA proposing to take?

EPA is proposing to approve new MOVES2010a-based budgets for the Central Indiana 1997 ozone maintenance area. The Central Indiana area was redesignated to attainment of the 1997 8-hour ozone standard on October 19, 2007 (72 FR 59210), and the MOBILE6.2-based budgets were approved in that notice. When EPA finalizes this proposed approval, the newly submitted MOVES2010a budgets will replace the existing, MOBILE6.2-based budgets in the state's 1997 8-hour ozone maintenance plan and must then be used in future transportation conformity analyses for the area. At that time, the previously approved budgets would no longer be applicable for transportation conformity purposes.

When EPA approves the MOVES2010a-based budgets, the Central Indiana 1997 8-hour ozone maintenance area must use the MOVES2010a-based budgets starting on the effective date of that final approval. See 75 FR 9411-9414 for background and section III.c below for details.

III. What is the background for this action?

a. SIP Budgets and Transportation Conformity

Under the Clean Air Act (CAA), states are required to submit, at various times, control strategy SIP revisions and maintenance plans for nonattainment and maintenance areas for a given National Ambient Air Quality Standard (NAAQS). These emission control strategy SIP revisions (e.g., reasonable further progress and attainment demonstration SIP revisions) and maintenance plans include budgets of on-road mobile source emissions for criteria pollutants and/or their precursors to address pollution from cars and trucks. SIP budgets are the portions of the total allowable emissions that are allocated to on-road vehicle use that, together with emissions from other sources in the area, will provide for attainment or maintenance. The budget serves as a ceiling on emissions from an area's planned transportation system. For more information about budgets, see the preamble to the November 24, 1993, transportation conformity rule (58 FR 62188).

Under section 176(c) of the CAA, transportation plans, Transportation Improvement Programs (TIPs), and transportation projects must “conform” to (i.e., be consistent with) the SIP before they can be adopted or approved. Conformity to the SIP means that transportation activities will not cause new air quality violations, worsen existing air quality violations, or delay timely attainment of the NAAQS or delay an interim milestone. The transportation conformity regulations can be found at 40 CFR Part 93.

Before budgets can be used in conformity determinations, EPA must affirmatively find the budgets adequate. However, adequate budgets do not supersede approved budgets for the same CAA purpose. If the submitted SIP budgets are meant to replace budgets for the same purpose, as is the case with Indiana's MOVES2010a 1997 8-hour ozone maintenance plan budgets, EPA must approve the budgets, and can affirm that they are adequate at the same time. Once EPA approves the submitted budgets, they must be used by state and Federal agencies in determining whether transportation activities conform to the SIP as required by section 176(c) of the CAA. EPA's substantive criteria for determining the adequacy of budgets are set out in 40 CFR 93.118(e)(4).

b. Prior Approval of Budgets

EPA had previously approved budgets for the Central Indiana 8-hour ozone maintenance area for volatile organic compounds (VOCs) and nitrogen oxides (NOX) for the years 2006 and 2020 on October 19, 2007 (72 FR 59210). These budgets were based on EPA's MOBILE6.2 emissions model. The ozone maintenance plan established 2006 budgets for the Central Indiana area of 54.32 tons per summer day (tpd) for VOCs and 106.19 tpd for NOX and 2020 budgets for the Central Indiana Area of 29.52 tpd for VOCs and 35.69 tpd for NOX. These budgets demonstrated a reduction in emissions from the monitored attainment year and included a margin of safety.

c. The MOVES Emissions Model and Regional Transportation Conformity Grace Period

The MOVES model is EPA's state-of-the-art tool for estimating highway emissions. The model is based on analyses of millions of emission test results and considerable advances in the agency's understanding of vehicle emissions. MOVES incorporates the latest emissions data, more sophisticated calculation algorithms, increased user flexibility, new software design, and significant new capabilities relative to those reflected in MOBILE6.2.

EPA announced the release of MOVES2010 in March 2010 (75 FR 9411). This notice approved the use of MOVES2010 in official SIP submissions to EPA and for regional emissions analyses for transportation conformity purposes outside of California. In addition, the notice started a two-year grace period before MOVES2010 is required to be used in new regional emissions analyses for transportation conformity determinations outside of California. EPA has since extended that grace period until March 2, 2013 (77 FR 11394).

On September 8, 2010, EPA released MOVES2010a, which included minor revisions that enhance model performance and do not significantly affect the criteria pollutant emissions results from MOVES2010. Therefore, MOVES2010a is not considered a “new model” under 40 CFR 93.111. As a result, the MOVES2010 grace period for regional conformity analyses applies to the use of MOVES2010a as well.¹

¹ For more information, see 77 FR 11394.

EPA encouraged Metropolitan Planning Organizations (MPOs), Departments of Transportation, and state air agencies to examine how MOVES would affect future transportation plan and TIP conformity determinations so, if necessary, SIPs and budgets could be revised with MOVES2010 or transportation plans and TIPs could be revised (as appropriate) prior to the end of the regional transportation conformity grace period. EPA also encouraged state and local air agencies to consider how the release of MOVES would affect analyses supporting SIP submissions under development.

The Indianapolis Metropolitan Planning Organization (IMPO) has used MOVES2010a emission rates with the transportation network information to estimate emissions in the years of the transportation plan and also for the SIP. Indiana is revising the budgets at this time using the latest planning assumptions including population and employment updates. In addition, newer vehicle registration data has been used to update the age distribution of the vehicle fleet. Since MOVES2010 (or a minor model revision) will be required for conformity analyses after the grace period ends, Indiana finds that updating the budgets with MOVES2010a will prepare the IMPO for the transition to using MOVES for conformity analyses and determinations. The interagency consultation group has had extensive consultation on the requirements and need for new budgets.

d. Submission of New Budgets Based on MOVES2010a

On March 2, 2012, Indiana submitted for parallel processing replacement budgets based on MOVES2010a for the Central Indiana area. Indiana is currently providing public review and comment at the state level. The state public comment period ends on March 30, 2012. EPA is proposing to approve the MOVES2010a budgets after completion of the public process and formal submittal of the SIP revision request.

The MOVES2010a budgets are proposed to replace the prior approved MOBILE6.2 budgets and are for the same years and pollutants/precursors. The new MOVES2010a budgets are for the years 2006 and 2020 for both VOCs and NOX. Indiana has also submitted MOVES2010a emissions for the attainment year of 2005 as a comparison to the 2006 and 2020 budget years and for purposes of calculating a safety margin. Table 4.1-A in the submittal demonstrates how mobile source emissions decline from the attainment year of 2005. In 2005, the total estimated NOX emissions from all sources (including mobile, point, area and non-road sources) is 329.78 tpd and the total VOC emissions, for the 2005 attainment year, from all sources is 207.94 tpd. The 2020 estimated emissions for total NOX from all sources is 136.59 tpd and the total VOC emissions from all sources is 163.69 tpd. The mobile source emissions, when included with point, area and non-road sources continue to demonstrate maintenance of the attainment level of emissions in the Central Indiana area.

No additional control measures were needed to maintain the 1997 ozone standard emissions in the Central Indiana area. The available safety margin for NOX and VOCs was recalculated at the bottom of table 4.1-A and an allocation of 10% for NOX and 12% for VOCs were decided upon during the interagency consultation process. The on-road MOVES2010a based budgets are in Table 5.2-A of the submittal and are listed as 210.93 tpd for NOX and 64.32 tpd for VOCs in the year 2006 and 69.00 tpd for NOX and 25.47 tpd for VOCs in the year 2020. These budgets will continue to keep emissions in the Central Indiana area below the calculated attainment year of emissions.

IV. What are the criteria for approval?

The CAA has always required that revisions to existing SIPs and budgets continue to meet applicable requirements (i.e., reasonable further progress (RFP), attainment, or maintenance). States that revise their existing SIPs to include MOVES budgets must therefore show that the SIP continues to meet applicable requirements with the new level of motor vehicle emissions contained in the budgets.

The transportation conformity rule (at 40 CFR 93.118(e)(4)(iv)) requires that “the motor vehicle emissions budget(s), when considered together with all other emissions sources, is consistent with applicable requirements for reasonable further progress (RFP), attainment, or maintenance (whichever is relevant to the given implementation plan submission).” This and the other adequacy criteria found at 40 CFR 93.118(e)(4) must be satisfied before EPA can find submitted budgets adequate or approve them for conformity purposes.

In addition, EPA has stated that areas can revise their budgets and inventories using MOVES without revising their entire SIP if (1) the SIP continues to meet applicable requirements when the previous motor vehicle emissions inventories are replaced with MOVES base year and milestone, attainment, or maintenance year inventories, and (2) the state can document that growth and control strategy assumptions for non-motor vehicle sources continue to be valid and any minor updates do not change the overall conclusions of the SIP. For example, the first criterion could be satisfied by demonstrating that the emissions reductions between the baseline/attainment year and maintenance year are the same or greater using MOVES than they were previously. The Indiana submittal meets this requirement as described below in section V.

For more information, see EPA's latest “Policy Guidance on the Use of MOVES2010 for State Implementation Plan Development, Transportation Conformity, and Other Purposes” available online at: www.epa.gov/otaq/stateresources/transconf/policy.htm#models.

V. What is EPA's analysis of the State's submittal?

a. The Revised Inventories

The Indiana SIP revision request for Central Indiana 1997 ozone maintenance seeks to revise only the on-road mobile source inventories and not the non-road inventories, area source inventories or point source inventories for the 2006 and 2020 years for which the SIP revises the budgets. IDEM has certified that the control strategies remain the same as in the original SIP, and that no other control strategies are necessary. This is confirmed by the monitoring data for Central Indiana, which continues to monitor attainment for the 1997 8-hour ozone standard. The area is also monitoring attainment for the 2008 8-hour ozone standard. Thus, the current control strategies are continuing to keep the area in attainment of the NAAQS.

EPA has reviewed the emission estimates for point, area and non-road sources and concluded that no major changes to the projections need to be made. The submittal states that “growth and control strategy assumptions for non-mobile sources (i.e., area, nonroad, and point) from the original submittal for the years 2005, 2010, 2015, and 2020 were developed before the down turn in the economy over the last several years. Because of this, the factors included in the original submittal may project more growth than actual into the future. As a result, the growth and control strategy assumptions for the non-mobile sources for the years 2005, 2010, 2015 and 2020 continue to be valid and do not affect the overall conclusions of the plan.”

Indiana confirms that the SIP continues to demonstrate its purpose of maintaining the 1997 ozone standard because the emissions are continuing to decrease from the attainment year to the final year of the maintenance plan. The total emissions in the revised SIP (which includes MOVES2010a emissions from mobile sources) are 329.78 tpd for NOX and 207.94 tpd for VOCs in the 2005 attainment year. The total emissions from all sources in the 2020 year are 136.59 tpd for NOX and 163.69 tpd for VOCs. These totals demonstrate that emissions in the Central Indiana area are continuing to decline and remain below the attainment levels.

Indiana has submitted MOVES2010a-based budgets for the Central Indiana area that are clearly identified in Table 5.2-A of the submittal. The budgets for 2006 are 210.93 tpd for NOX and 64.32 tpd for VOCs. The budgets for 2020 are 69.00 tpd for NOX and 25.47 tpd for VOCs.

b. Approvability of the MOVES2010a-Based Budgets

EPA is proposing to approve the MOVES2010a-based budgets submitted by the state for use in determining transportation conformity in the Central Indiana 1997 ozone maintenance area. EPA is making this proposal based on our evaluation of these budgets using the adequacy criteria found in 40 CFR 93.118(e)(4) and our in-depth evaluation of the State's submittal and SIP requirements. EPA has determined, based on its evaluation, that the area's maintenance plan would continue to serve its intended purpose with the submitted MOVES2010a-based budgets and that the budgets themselves will meet the adequacy criteria in the conformity rule at 40 CFR 93.118(e)(4) after the state public hearing is completed and the SIP is formally submitted.

EPA is parallel processing this SIP revision request which means that EPA is proposing approval at the same time that the state is completing the public process at the state level. This SIP revision request will not be complete and will not meet all the adequacy criteria until the state public process is complete and the SIP revision is submitted in final with a letter from the Governor or Governor's designee. EPA is proposing to approve the SIP revision request after completion of the state public process and final submittal. If any comments are received, EPA will consider those comments received both at the state and Federal level.

EPA is moving forward with proposing approval with this parallel process because transportation projects cannot be amended to the Central Indiana Transportation Plan and transportation improvement program until this budget replacement is completed. The Central Indiana area has three MPOs in the maintenance area (Indianapolis, Anderson and a portion of the Columbus, Indiana MPO). These three MPOs are required by the conformity rule to conduct conformity determinations together because they are all part of the same maintenance area with one set of ozone budgets for that area (there are not separate budgets for each MPO). The budgets need to be updated, not only to accommodate the use of MOVES2010a, but also because of the updated planning assumptions for mobile sources.

The adequacy criteria found in 40 CFR 93.118(e)(4) are as follows:

• The submitted SIP was endorsed by [the Governor/Gov's designee] and was subject to a state public hearing (§ 93.118(e)(4)(i));

• The submitted SIP underwent consultation among Federal, state, and local agencies and the state fully documented the submittal (§ 93.118(e)(4)(ii));

• The budgets are clearly identified and precisely quantified (§ 93.118(e)(4)(iii));

• The budgets, when considered with other emission sources, are consistent with applicable requirements for [reasonable further progress/attainment/maintenance] (§ 93.118(e)(4)(iv));

• The budgets are consistent with and clearly related to the emissions inventory and control measures in the SIP (§ 93.118(e)(4)(v)); and

• The revisions explain and document changes to the previous budgets, impacts on point and area source emissions and changes to established safety margins (§ 93.118(e)(4)(vi)).

Our review finds that Indiana has met all of the adequacy criteria, except the public process and final submittal by the Governor or Governor's designee. The interagency consultation group, which is composed of the state air agency, state Department of Transportation, Federal Highway Administration, EPA and the MPOs for the area, have discussed and reviewed the budgets developed with MOVES2010a and the safety margin allocation. The budgets are clearly identified and precisely quantified in the submittal in table 5.2-A. The budgets when considered with other emissions sources (point, area, non-road) are consistent with continued maintenance of the 1997 ozone standard. The budgets are clearly related to the emissions inventory and control measures in the SIP. The changes from the previous budgets are clearly explained with the change in the model from MOBILE6.2 to MOVES2010a and the revised and updated planning assumptions. The inputs to the model are detailed in the Appendix to the submittal. EPA has reviewed the inputs to the MOVES2010a modeling and participated in the consultation process. The Federal Highway Administration—Indiana Division and the Indiana Department of Transportation have taken a lead role in working with the MPO and contractor to provide accurate, timely information and inputs to the MOVES2010a model runs. The IMPO network model and Anderson MPO network model provided the vehicle miles of travel and other necessary data from the travel demand networks.

The CAA requires that revisions to existing SIPs and budgets continue to meet applicable requirements (in this case, maintenance). Therefore, states that revise existing SIPs with MOVES must show that the SIP continues to meet applicable requirements with the new level of motor vehicle emissions calculated by the new model.

To that end, Indiana's submitted MOVES2010a budgets meet EPA's two criteria for revising budgets without revising the entire SIP:

(1) The SIP continues to meet applicable requirements when the previous motor vehicle emissions inventories are replaced with MOVES2010a base year and milestone, attainment, or maintenance year inventories, and

(2) The state can document that growth and control strategy assumptions for non-motor vehicle sources continue to be valid and any minor updates do not change the overall conclusions of the SIP.

The State has documented that growth and control strategy assumptions continue to be valid and do not change the overall conclusions of the maintenance plan. The emission estimates for point, area and non-road sources have not changed. The submittal states that “growth and control strategy assumptions for non-mobile sources (i.e. area, non-road, and point) from the original submittal for the years 2005, 2010, 2015, 2020 were developed before the down turn in the economy over the last several years. Because of this, the factors included in the original submittal may project more growth than actual into the future. As a result, the growth and control strategy assumptions for the non-mobile sources for the years 2005, 2010, 2015 and 2020 continue to be valid and do not affect the overall conclusions of the plan.”

Indiana confirms that the SIP continues to demonstrate its purpose of maintaining the 1997 ozone standard because the emissions are continuing to decrease from the attainment year to the final year of the maintenance plan. The total emissions in the revised SIP (which includes MOVES2010a emissions for mobile sources) decrease from 329.78 tpd for NOX and 207.94 tpd for VOCs in the 2005 attainment year to 136.59 tpy NOX and 163.69 tpd VOC in 2020. These totals demonstrate that emissions in the Central Indiana area are continuing to decline and remain below the attainment levels. The following tables show total emissions in the Central Indiana area including point, area, non-road, and mobile sources and demonstrates the declining emissions from the 2005 attainment year.

Table of Total Emissions With MOVES2010a Mobile Emissions
| 2005 | 2010 | 2015 | 2020
VOC | 207.94 | 189.75 | 177.43 | 163.69
NOX | 329.78 | 223.43 | 168.61 | 136.59

Based on our review of the SIP and the new budgets provided, EPA has determined that the SIP will continue to meet its requirements if the revised motor vehicle emissions inventories are replaced with MOVES2010a inventories.

c. Applicability of MOBILE6.2-Based Budgets

Pursuant to the State's request, EPA is proposing that, if we finalize the approval of the revised budgets, the state's existing MOBILE6.2-based budgets will no longer be applicable for transportation conformity purposes upon the effective date of that final approval.

In addition, once EPA approves the MOVES2010a-based budgets, the regional transportation conformity grace period for using MOVES2010 (and subsequent minor revisions) for the pollutants included in these budgets will end for the Central Indiana ozone maintenance area on the effective date of that final approval.²

² For more information, see Question 11 of EPA's “Policy Guidance on the Use of MOVES2010 for State Implementation Plan Development, Transportation Conformity, and Other Purposes” and 75 FR 9411.

VI. What action is EPA taking?

EPA is proposing in this action that the Central Indiana existing approved budgets for VOCs and NOX for 2006 and 2020 for the 1997 8-hour ozone maintenance plan be replaced with new budgets based on the MOVES2010a emissions model. Once this proposal is finalized, future transportation conformity determinations would use the new, MOVES2010a-based budgets and would no longer use the existing MOBILE6.2-based budgets. EPA is also proposing to find that the Central Indiana area's maintenance plan would continue to meet its requirements as set forth under the CAA when these new budgets are included.

VII. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Intergovernmental relations, Nitrogen oxides, Ozone, Volatile organic compounds.

Dated: March 26, 2012.
Susan Hedman,
Regional Administrator, Region 5.

[FR Doc. 2012-8208 Filed 4-4-12; 8:45 am]

BILLING CODE 6560-50-P